DEPARTMENT OF TRANSPORTATION

Federal Aviation Administration

14 CFR Part 39

[Docket No. FAA-2012-0987; Directorate Identifier 2012-NM-130-AD; Amendment 39-17317; AD 2013-01-03]

RIN 2120-AA64

Airworthiness Directives; The Boeing Company Airplanes

AGENCY: Federal Aviation Administration (FAA), DOT.

ACTION: Final rule.

SUMMARY: We are adopting a new airworthiness directive (AD) for certain The Boeing Company Model 737-300, 737-400, 737-500, and 757-200 series airplanes. This AD was prompted by a report of damage caused by electrical arcing to the wires that connect seat electronics boxes (SEBs). This AD requires installing a new relay and doing certain wiring changes of the entertainment control switch. We are issuing this AD to prevent power from being supplied to passenger seats when the entertainment control switch is in the OFF position, which could cause an electrical shock hazard resulting in serious or fatal injury to maintenance personnel.

DATES: This AD is effective February 22, 2013.

The Director of the Federal Register approved the incorporation by reference of certain publications listed in the AD as of February 22, 2013.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Binh Tran, Aerospace Engineer, Systems and Equipment Branch, ANM-130S, FAA, Seattle Aircraft Certification Office, 1601 Lind Avenue SW., Renton, WA 98057-3356; phone: 425-917-6485; fax: 425-917-6590; email: binh.tran@faa.gov.

SUPPLEMENTARY INFORMATION:

Discussion

We issued a notice of proposed rulemaking (NPRM) to amend 14 CFR part 39 to include an AD that would apply to the specified products. That NPRM published in the Federal Register on September 20, 2012 (77 FR 58325). That NPRM proposed to require installing a new relay and doing certain wiring changes of the entertainment control switch if necessary.

Comments

We gave the public the opportunity to participate in developing this AD. The following presents the comments received on the proposal (77 FR 58325, September 20, 2012) and the FAA's response to each comment. Boeing concurred with the contents of the NPRM. American Airlines stated that it understands the basis for the proposed AD and that it does not operate any of the airplanes having serial numbers identified in the NPRM.

Supplemental Type Certificate (STC) Winglet Comment

Aviation Partners Boeing stated that the installation of winglets per STC ST01518SE (http://rgl.faa.gov/Regulatory_and_Guidance_Library/rgSTC.nsf/Frameset?OpenPage) does not affect accomplishment of the proposed requirements.

Conclusion

We reviewed the relevant data, considered the comments received, and determined that air safety and the public interest require adopting the AD as proposed—except for minor editorial changes. We have determined that these minor changes:

• Are consistent with the intent that was proposed in the NPRM (77 FR 58325, September 20, 2012) for correcting the unsafe condition; and

• Do not add any additional burden upon the public than was already proposed in the NPRM (77 FR 58325, September 20, 2012).

Costs of Compliance

We estimate that this AD affects 28 airplanes of U.S. registry.

We estimate the following costs to comply with this AD:

Estimated Costs
Action | Labor cost | Parts cost | Cost per product | Cost on U.S. operators
Wire bundle change, relay installation, and operational test (one Group 1 Model 737 airplane) | 29 work-hours × $85 per hour = $2,465 | $0 | $2,465 | $2,465
Wire bundle change, relay installation, and operational test (one Group 2 Model 737 airplane) | 14 work-hours × $85 per hour = $1,190 | 0 | 1,190 | 1,190
Wire bundle change, relay installation, and operational test (26 Model 757 airplanes) | 34 work-hours × $85 per hour = $2,890 | 0 | 2,890 | 75,140

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-01-03 The Boeing Company: Amendment 39-17317; Docket No. FAA-2012-0987; Directorate Identifier 2012-NM-130-AD.

(a) Effective Date

This AD is effective February 22, 2013.

(b) Affected ADs

None.

(c) Applicability

This AD applies to The Boeing Company Model 737-300, -400, and -500 series airplanes, certificated in any category, as identified in Boeing Special Attention Service Bulletin 737-23-1302, dated August 24, 2009; and Model 757-200 series airplanes, certificated in any category, as identified in Boeing Special Attention Service Bulletin 757-23-0107, Revision 1, dated May 16, 2012.

(d) Subject

Joint Aircraft System Component (JASC)/Air Transport Association (ATA) of America Code 23, Communications.

(e) Unsafe Condition

This AD was prompted by a report of damage caused by electrical arcing to the wires that connect seat electronics boxes. We are issuing this AD to prevent power from being supplied to passenger seats when the entertainment control switch is in the OFF position, which could cause an electrical shock hazard resulting in serious or fatal injury to maintenance personnel.

(f) Compliance

Comply with this AD within the compliance times specified, unless already done.

(g) Installation of New Relay and Wiring Bundle Change

Within 24 months after the effective date of this AD: Change the wire bundle route, and install a new relay and applicable wiring of the entertainment control switch, in accordance with the Accomplishment Instructions of the service information specified in paragraph (g)(1) or (g)(2) of this AD, as applicable.

(1) For Model 737-300, -400, and -500 series airplanes: Use Boeing Special Attention Service Bulletin 737-23-1302, dated August 24, 2009.

(2) For Model 757-200 series airplanes: Use Boeing Special Attention Service Bulletin 757-23-0107, Revision 1, dated May 16, 2012.

(h) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(i) Related Information

For more information about this AD, contact Binh Tran, Aerospace Engineer, Systems and Equipment Branch, ANM-130S, FAA, Seattle Aircraft Certification Office, 1601 Lind Avenue SW., Renton, WA 98057-3356; phone: 425-917-6485; fax: 425-917-6590; email: binh.tran@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 737-23-1302, dated August 24, 2009.

(ii) Boeing Special Attention Service Bulletin 757-23-0107, Revision 1, dated May 16, 2012.

(3) For service information identified in this AD, contact Boeing Commercial Airplanes, Attention: Data & Services Management, P.O. Box 3707, MC 2H-65, Seattle, Washington 98124-2207; telephone 206-544-5000, extension 1; fax 206-766-5680; Internet https://www.myboeingfleet.com.

(4) You may view this service information at FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 4, 2013.
Kalene C. Yanamura,
Acting Manager, Transport Airplane Directorate, Aircraft Certification Service.

[FR Doc. 2013-00563 Filed 1-17-13; 8:45 am]

BILLING CODE 4910-13-P